DEPARTMENT OF ENERGY

Convention on Supplementary Compensation for Nuclear Damage Contingent Cost Allocation

AGENCY: Office of the General Counsel, Department of Energy.

ACTION: Notice of extension of public comment period for reply comments.

SUMMARY: On July 27, 2010, the Department of Energy (DOE) published in the Federal Register a notice of inquiry (NOI) and request for comment from the public in its development of regulations pertaining to section 934, of the Energy Independence and Security Act of 2007 (“Act”). Section 934 addresses how the United States will meet its obligations under the Convention for Supplementary Compensation for Nuclear Damage (“CSC”) including its obligation to contribute to an international supplementary fund in the event of certain nuclear incidents. The NOI provided a September 27, 2010, deadline for comments, which was subsequently extended to October 27, 2010 in response to a public request for extension. This notice announces a second and final extension of the comment period to November 30, 2010.

DATES: DOE will accept comments and information regarding the NOI and the development of regulations under the Act received no later than November 30, 2010.

ADDRESSES: Any comments submitted must identify section 934 of the Act, as appropriate. Comments may be submitted using any of the following methods:

• E-mail: Section934Rulemaking@Hq.Doe.Gov Include Section 934 in the subject line of the message.

• Postal Mail: Sophia Angelini. Attorney-Advisor, Office of the General Counsel for Civilian Nuclear Programs, GC-52, U.S. Department of Energy, 1000 Independence Avenue, SW., Room 6A-167, Washington, DC 20585; Telephone (202) 586-0319. Please submit one signed original and three paper copies of all comments.

FOR FURTHER INFORMATION CONTACT: Sophia Angelini, Attorney-Advisor, Office of the General Counsel for Civilian Nuclear Programs, GC-52, U.S. Department of Energy, 1000 Independence Avenue, SW., Washington, DC 20585; Telephone (202) 586-0319.

SUPPLEMENTARY INFORMATION: On July 27, 2010, the DOE published an NOI in the Federal Register (75 FR 43945) on the development of regulations under section 934 of the Act, entitled “Convention on Supplementary Compensation for Nuclear Damage Contingent Cost Allocation.” Section 934 addresses how the United States will meet its obligations under the CSC and, in particular, its obligation to contribute to an international supplementary fund in the event of certain nuclear incidents. Section 934 authorizes the Secretary of Energy to issue regulations establishing a retrospective risk pooling program by which nuclear suppliers will reimburse the United States government for any such contribution. This retrospective risk pooling program will operate with respect to nuclear incidents that are covered by the international supplementary fund, take place outside the United States, and are not covered by the Price-Anderson Act indemnification.

The NOI requested public comment from interested persons regarding specific as well as general questions and provided for the submission of comments by September 27, 2010. Thereafter, DOE received comments dated August 10, 2010, from the Nuclear Energy Institute (NEI) stating that the issues related to the risk pooling program warranted additional time for nuclear suppliers to provide comments to DOE and requesting an extension to October 27, 2010. Accordingly, on August 24, 2010, DOE published a notice in the Federal Register (75 FR 51986) extending the period for submitting public comments to October 27, 2010.

DOE has now received comments dated October 8, 2010, from Contractors International Group on Nuclear Liability (CIGNL), a nongovernmental group of major U.S. nuclear suppliers, requesting an extension of the public comment period to November 30, 2010. CIGNL stated that the complexity and number of issues presented in the NOI for public comment has made it difficult for CIGNL members to carefully review and coordinate comments. For example, CIGNL noted that there is little or no data now available to identify which entities located in, or carrying out activities in, the United States have or are furnishing goods or services to foreign nuclear installations and that it has so far identified as many as 300 to 1,800 types of goods or services that go into constructing and operating a nuclear power plant. CIGNL stated its intent to work through these issues and difficulties with a view toward development of an approach to propose to DOE for establishing the CSC cost allocation formula among U.S. nuclear suppliers. As observed by CIGNL, it would be beneficial if the major U.S. nuclear suppliers provided to DOE comprehensive and informed comments on the cost allocation formula and related issues in response to the NOI.

DOE has determined that extension of the comment period is appropriate based on the foregoing reasons and is hereby extending the comment period to November 30, 2010. Given the importance of proceeding in a timely manner toward development of regulations pertaining to section 934, DOE does not intend to grant any further extensions. Accordingly, DOE will consider any comments received by November 30, 2010 to be timely submitted.

Issued in Washington, DC, on October 14, 2010.
Scott Blake Harris,
General Counsel.

[FR Doc. 2010-26459 Filed 10-19-10; 8:45 am]

BILLING CODE 6450-01-P